DEPARTMENT OF HOMELAND SECURITY

Bureau of Customs and Border Protection

Agency Information Collection Activities: Proposed Collection; Comment Request

Action: 30-Day notice of information collection under review: Application for USAccess; Form I-293.

The Department of Homeland Security (DHS), Bureau of Customs and Border Protection (CBP), has submitted the following information collection request to the Office of Management and Budget (OMB) for review and clearance in accordance with the Paperwork Reduction Act of 1995. The request for an extension of this information collection was previously published in the Federal Register on September 30, 2003, at 68 FR 56302, allowing for public review and comment for a period of 60 days. The CBP has received no public comment on this proposed information collection and is therefore seeking OMB approval on the new information collection for a period of three years.

The purpose of this notice is to notify the public of the agency request to extend this information collection and to allow an additional 30 days for public comments. Comments are encouraged and will be accepted until March 15, 2004. This process is conducted in accordance with 5 CFR 1320.10.

Written comments and/or suggestions regarding the items contained in this notice, especially regarding the estimated public burden and associated response time, should be directed to the Office of Management and Budget, Office of Information and Regulatory Affairs, Attention: Department of Justice Desk Officer, 725 17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New information collection.

(2) Title of the Form/Collection: Application for USAccess.

(3) Agency form number, if any, and the applicable component of the Department of Homeland Security sponsoring the collection: Form I-923, Bureau of Customs and Border Protection, Department of Homeland Security.

(4) Affected public who will be asked or required to respond, as well as a brief abstract: Primary: Individuals or Households. The information collected on this form will be used by the DHS to determine eligibility for automated inspections programs and to secure those data elements necessary to confirm enrollment at the time of application of readmission to the United States.

(5) An estimate of the total number of respondents and the amount of time estimated for an average respondent to respond: 3,000 responses at 66 minutes (1.10 hours) per response.

(6) An estimate of the total public burden (in hours) associated with the collection: 3,300 annual burden hours.

If you have additional comments, suggestions, or need a copy of the proposed information collection instrument with instructions, or additional information, please contact Richard A. Sloan 202-514-3291, Director, Regulations and Forms Services Division, Department of Homeland Security, Room 4034, 425 I Street, NW., Washington, DC 20536. Additionally, comments and/or suggestions regarding the item(s) contained in this notice, especially regarding the estimated public burden and associated response time may also be directed to Mr. Richard A. Sloan.

If additional information is required contact: Mr. Steve Cooper, PRA Information Officer, Department of Homeland Security, Regional Office Building 3, 7th and D Streets, SW., Suite 4636-26, Washington, DC 20202.

Dated: February 6, 2004.
Richard A. Sloan,
Department Clearance Officer, Department of Homeland Security, Bureau of Customs and Border Protection.

[FR Doc. 04-3038 Filed 2-11-04; 8:45 am]

BILLING CODE 4410-10-M